DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Service Use and Transitions of Private Long-term Care Insurance Claimants—The Department's Office of the Assistant Secretary for Planning and Evaluation proposes to conduct a study to better understand the circumstances or factors that motivate elders who have purchased long-term care insurance policies to use services and file claims for benefits. The purpose is to obtain a comprehensive demographic, health and attitudinal profile of individuals with private long term care insurance policies. Respondents: Individuals—Burden Information for Baseline Survey—Number of Respondents: 1,650; Burden per Response: 1.36 hours; Burden for Baseline Surveys: 2,251 hours—Burden Information for Follow-up Interview—Number of Responses: 5,105; Burden per Response: .288 hours; Burden for Follow-up: 1469 hours—Total Burden: 3,720 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC 20201. Written comments should be received within 30 days of this notice.

Dated: December 12, 2002.
Kerry Weems,
Deputy Assistant Secretary, Budget.

[FR Doc. 02-32632 Filed 12-26-02; 8:45 am]

BILLING CODE 4154-05-M